SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections, and extensions (no change) of OMB-approved information collections.

SSA is soliciting comments on the accuracy of the Agency's burden estimate; the need for the information; its practical utility; ways to enhance its quality, utility and clarity; and how to minimize the burden on respondents, including the use of automated collection techniques or other forms of information technology. Mail, e-mail, or fax your comments and recommendations on the information collection(s) to the SSA Reports Clearance Officer to the addresses or fax numbers listed below.

(SSA), Social Security Administration, DCBFM, Attn: Reports Clearance Officer, 1333 Annex Building, 6401 Security Blvd., Baltimore, MD 21235, Fax: 410-965-6400, E-mail address: OPLM.RCO@ssa.gov.

The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Ticket to Work and Self-Sufficiency Program—20 CFR 411—0960-0644

The Ticket to Work and Self-Sufficiency Program allows individuals with disabilities who are receiving Social Security Disability Insurance benefits and Supplemental Security Income (SSI) payments to work toward decreased dependence on government cash benefits programs without jeopardizing their benefits during the transition period to employment. Disability payment recipients choose a service provider who will guide them in obtaining, regaining, and maintaining self-supporting employment. 20 CFR 411.140-.730 of the Code of Federal Regulations discusses the regulations governing this program. We show the multiple categories of information collection requirements in these regulations in the chart below. The respondents are individuals entitled to Social Security benefits based on disability or individuals receiving SSI; program managers (PMs); employee network (EN) contractors; and State vocational rehabilitation agencies (SVRA).

Type of Request: Revision of an OMB-approved information collection.

Number of Respondents: 121,981.

Total Estimated Annual Burden: 46,553 hours.

Sections | Section titles | Annual number of responses | Frequency of response | Average burden of response (minutes) | Estimated annual burden (hours)
411.140(d)(3), 411.150(b)(3), 411.325(a) | EN submission of Individual Work Plans for Non-State EN Tickets to PM | 3,983 | 1 | 240 | 15,932
SSA-1365: 411.140(d)(3), 411.385(a) 411.390 | State VR Agency Ticket Assignments/ Reassignments | 25,174 | 1 | 3 | 1,259
411.170(b), 411.385(a), 411.390 | Electronic Data Sharing for State VR Agency's Tickets Under Cost Reimbursement | 35,584 | 1 | 5 | 2,965
411.145, 411.325 | Ticket Holder or Service Provider Request for Ticket Unassignments | 2,532 | 1 | 15 | 633
411.535(a)(1) (iii) | Notifying Program Manager of State VR Case Closures | 8,505 | 1 | 5 | 709
411.192(b)&(c) | Tracking Progress—Ticket Holder's Request to Place Ticket in Inactive Status | 1,000 | 1 | 30 | 500
411.200(b): SSA-1375; Paper Version (Beneficiaries) | Tracking Progress—Request for Ticket Holder Certification of Work and Educational Progress (Individuals) | 13,500 | 1 | 15 | 3,375
411.200(b): SSA-1375; Internet Version (State ENs) | Tracking Progress—Request for Certification of Work and Educational Progress (State ENs) | 13,500 | 1 | 8 | 1,800
411.210(b) | Ticket Holder Request to Reenter Ticket-Use Status after Not Making Timely Progress | 3,145 | 1 | 30 | 1,573
411.365, 411.505, 411.515 | Selecting a Payment Plan—ENs & State VRs functioning as ENs | 118 | 1 | 30 | 59
411.325(d), 411.415 | EN Reporting Referral Agreement Activity | 48 | 1 | 480 | 384
411.575 | Requesting EN Payments on Milestones and Outcomes | 12,420 | 1 | 60 | 12,420
411.325(f) | EN Periodic Outcomes Reporting | 2,470 | 1 | 120 | 4,940
411.435, 411.615, 411.625 | EN and State VR Request for Dispute Resolutions | 2 | 1 | 120 | 4
Totals |  | 121,981 |  |  | 46,553

2. Youth Transition Process Demonstration Evaluation Data Collection—0960-0687

Background

The purpose of the Youth Transition Demonstration (YTD) project is to help young people with disabilities make the transition from school to work. While participating in the project, youth can continue to work and/or continue their education because SSA waives certain disability program rules and offers services to youth who are receiving disability benefits or have a high probability of receiving them. We will fully implement YTD projects in 10 sites across the country. The evaluation will produce empirical evidence on the effects of the waivers and project services including educational attainment, employment, earnings, and receipt of benefits by youth with disabilities but also on the Social Security Trust Fund and federal income tax revenues. This type of project is authorized by Sections 1110 and 234 of the Social Security Act.

Project Description

Given the importance of estimating YTD effects as accurately as possible, we will evaluate the project using rigorous analytic methods based on randomly assigning youth to a treatment or control group. We will conduct several data collections.

These include (1) baseline interviews with youth and their parents or guardians prior to random assignment; (2) followup interviews at 12 and 36 months after random assignment; (3) interviews and/or roundtable discussions with local program administrators, program supervisors, and service delivery staff; and (4) focus groups of youths, their parents, and service providers. The respondents are youths with disabilities enrolled in the project; their parents or guardians; program staff; and service providers.

Type of Request: Revision of an existing OMB Clearance.

Data collection year | Collection | Number of respondents | Responses per respondent | Average burden per response (hours) | Total response burden (hours)
2008 | Baseline | 2,531 | 1 | 0.55 | 1,392
| Informed Consent | 2,531 | 1 | .083 | 210
| 12 month follow-up | 1,502 | 1 | 0.83 | 1,247
| In-depth interviews | 120 | 1 | .42 | 50
| Focus groups | 60 | 1 | 1.5 | 90
| Program staff/service provider | 32 | 1 | 1 | 32
Total 2008 |  |  |  |  | 3,021

Dated: April 28, 2008.
Elizabeth A. Davidson,
Reports Clearance Officer, Social Security Administration.

[FR Doc. E8-9700 Filed 5-1-08; 8:45 am]

BILLING CODE 4191-02-P